DEPARTMENT OF TRANSPORTATION

Federal Aviation Administration

14 CFR Part 39

[Docket No. FAA-2015-3989; Directorate Identifier 2014-NM-250-AD; Amendment 39-18600; AD 2016-16-02]

RIN 2120-AA64

Airworthiness Directives; Airbus Airplanes

AGENCY: Federal Aviation Administration (FAA), Department of Transportation (DOT).

ACTION: Final rule.

SUMMARY: We are adopting a new airworthiness directive (AD) for all Airbus Model A318, A319, A320, and A321 series airplanes. This AD was prompted by reports of premature aging of certain passenger chemical oxygen generators that resulted in the generators failing to activate. This AD requires an inspection to determine if certain passenger chemical oxygen generators are installed and replacement of affected passenger chemical oxygen generators. We are issuing this AD to prevent failure of the passenger chemical oxygen generator to activate and consequently not deliver oxygen during an emergency, possibly resulting in injury to the airplane occupants.

DATES: This AD is effective September 16, 2016.

The Director of the Federal Register approved the incorporation by reference of certain publications listed in this AD as of September 16, 2016.

ADDRESSES: For Airbus service information identified in this final rule, contact Airbus, Airworthiness Office—EIAS, 1 Rond Point Maurice Bellonte, 31707 Blagnac Cedex, France; telephone: +33 5 61 93 36 96; fax: +33 5 61 93 44 51; email: account.airworth-eas@airbus.com; Internet: http://www.airbus.com. For B/E Aerospace service information identified in this final rule, contact B/E Aerospace Inc., 10800 Pflumm Road, Lenexa, KS 66215; telephone: 913-338-9800; fax: 913-469-8419; Internet: http://beaerospace.com/home/globalsupport. You may view this referenced service information at the FAA, Transport Airplane Directorate, 1601 Lind Avenue SW., Renton, WA. For information on the availability of this material at the FAA, call 425-227-1221. It is also available on the Internet at http://www.regulations.gov by searching for and locating Docket No. FAA-2015-3989.

Examining the AD Docket

You may examine the AD docket on the Internet at http://www.regulations.gov by searching for and locating Docket No. FAA-2015-3989; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone: 425-227-1405; fax: 425-227-1149.

SUPPLEMENTARY INFORMATION:

Discussion

We issued a notice of proposed rulemaking (NPRM) to amend 14 CFR part 39 by adding an AD that would apply to all Airbus Model A318, A319, A320, and A321 series airplanes. The NPRM published in the Federal Register on October 19, 2015 (80 FR 63136) (“the NPRM”). The NPRM was prompted by reports of premature aging of certain passenger chemical oxygen generators that resulted in the generators failing to activate. The NPRM proposed to require an inspection to determine if certain passenger chemical oxygen generators are installed and replacement of affected passenger chemical oxygen generators. We are issuing this AD to prevent failure of the passenger chemical oxygen generator to activate and consequently not deliver oxygen during an emergency, possibly resulting in injury to the airplane occupants.

The European Aviation Safety Agency (EASA), which is the Technical Agent for the Member States of the European Union, has issued EASA AD 2015-0117, dated June 24, 2015; corrected August 7, 2015 (referred to after this as the Mandatory Continuing Airworthiness Information, or “the MCAI”); to correct an unsafe condition for all Airbus Model A318, A319, A320, and A321 series airplanes. The MCAI states:

Reports have been received indicating premature ageing of certain chemical oxygen generators, Part Number (P/N) 117042-XX (XX representing any numerical value), manufactured by B/E Aerospace. Some operators reported that when they tried to activate generators, some older units failed to activate. Given the number of failed units reported, all generators manufactured in 1999, 2000 and 2001 were considered unreliable.

This condition, if not corrected, could lead to failure of the generator to activate and consequently not deliver oxygen during an emergency, possibly resulting in injury to aeroplane occupants.

To address this potential unsafe condition, Airbus issued Alert Operators Transmission (AOT) A35N006-14, making reference to B/E Aerospace Service Information Letter (SIL) D1019-01 (currently at Revision 1) and B/E Aerospace Service Bulletin (SB) 117042-35-001.

Consequently, EASA issued AD * * * (later revised) to require identification and replacement of the affected oxygen generators.

Since EASA AD 2014-0275R1 was issued, and following new investigation results, EASA have decided to introduce a life limitation concerning all P/N 117042-XX chemical oxygen generators, manufactured by B/E Aerospace.

For the reason described above, this [EASA] AD retains the requirements of the EASA AD 2014-0275R1, which is superseded, expands the scope of the [EASA] AD to include chemical oxygen generators manufactured after 2001, and requires their removal from service before exceeding 10 years since date of manufacture.

This [EASA] AD is re-published to correct a template error, removing the word ‘Proposed’ and replacing the acronym ‘PAD’ with ‘AD’.

You may examine the MCAI in the AD docket on the Internet at http://www.regulations.gov by searching for and locating Docket No. FAA-2015-3989.

Comments

We gave the public the opportunity to participate in developing this AD. The following presents the comments received on the NPRM (80 FR 63136, October 19, 2015) and the FAA's response to each comment.

Requests To Extend Compliance Times

United Airlines (UAL) and Delta Air Lines, Inc. (DAL) requested an extension of the 30-day compliance time for the part number inspection. UAL stated that the time required for the part number inspection and the size of UAL's fleet is prohibitive to meeting the 30-day compliance time and requested that we extend the initial compliance time to 24 months. DAL stated that the time required for the part number inspection and the size of DAL's fleet is prohibitive to meeting the 30-day compliance time and requested that we extend the initial compliance time for the part number inspection to 90 days. DAL pointed out that a 90-day compliance time would allow ample time to route airplanes and schedule the required work on the first group of affected airplanes.

We disagree with the requests to extend the 30-day compliance time for the part number inspection. The commenters did not provide any justification to substantiate how increasing the compliance time from 30 days to 90 days or 24 months would provide an acceptable level of safety. After considering all of the available information, we have determined that the compliance time, as proposed, represents an appropriate interval of time in which the required actions can be performed in a timely manner with the affected fleet, while still maintaining an adequate level of safety. In developing an appropriated compliance time, we considered the safety implications, parts availability, and normal maintenance schedules for timely accomplishment of the replacement, overall risk to the fleet, including the severity of the identified unsafe condition and the likelihood of the occurrence of the unsafe condition. However, under the provisions of paragraph (n)(1) of this AD, operators may apply for an extension of the compliance time by providing rationale explaining why a compliance time extension provides an acceptable level of safety. We have not changed this AD in this regard.

Request To Revise Cost Estimates

DAL requested that we revise the Costs of Compliance section provided in the NPRM. DAL pointed out that the cost estimate may not properly account for the number of products per airplane and that they believe the costs are significantly higher than the estimate included in the NPRM. DAL also provided revised cost estimates based on their fleet.

We partially agree with the request to revise the Costs of Compliance section. We disagree that the cost estimate should be revised based on airplane configuration, findings, and associated costs based only on the DAL fleet. The configuration of each airplane and inspection findings may vary among U.S. operators. We agree that the Costs of Compliance section provided in the NPRM might not have accurately represented the actual cost. After considering the data presented by DAL, we also agree that the number of work-hours required is higher than our previous estimate. The Costs of Compliance section of this final rule has been revised accordingly.

Request To Remove Reporting Requirement

UAL requested that we remove the reporting requirement in the proposed AD. UAL pointed out that reporting could expose operators to compliance risk. UAL also pointed out that they do not find any value in the information being requested by the reporting requirement. UAL stated that they will provide any feedback as requested.

We disagree with the request to remove the reporting requirement. We disagree that the information requested provides no value. Reporting is necessary for the airframe manufacturer to determine the extent of the unsafe condition and any necessary follow-up actions. We have not changed this AD in this regard.

Request To Reference Revised Service Information

Mr. Ricardo Erazo requested that we revise the AD to reference B/E Aerospace Service Bulletin 117042-35-001, Revision 004, dated October 13, 2015. Mr. Erazo did not provide rationale for this request.

We agree with the request to revise this AD to reference B/E Aerospace Service Bulletin 117042-35-001, Revision 004, dated October 13, 2015, and have revised this AD accordingly. B/E Aerospace Service Bulletin 117042-35-001, Revision 004, dated October 13, 2015, clarifies references to additional service information. As a result, we have also added paragraph (m) to this AD, to give credit for actions accomplished before the effective date of this AD using B/E Aerospace Service Bulletin 117042-35-001, dated December 10, 2014; B/E Aerospace Service Bulletin 117042-35-001, Revision 001, dated April 9, 2015; B/E Aerospace Service Bulletin 117042-35-001, Revision 002, dated May 29, 2015; or B/E Aerospace Service Bulletin 117042-35-001, Revision 003, dated June 25, 2015.

Change to Service Information References

We have revised paragraphs (h) and (i) of this AD to refer to Airbus AOT A35N006-14, dated December 10, 2014, including Appendix 1, as an additional appropriate source of service information for the 15-minute passenger chemical oxygen generators.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed the following service information.

• Airbus AOT A35N006-14, dated December 10, 2014, including Appendix 1.

• B/E Aerospace Inc. Service Bulletin 117042-35-001, Revision 004, dated October 13, 2015.

This service information describes procedures to replace certain passenger chemical oxygen generators. This service information is reasonably available because the interested parties have access to it through their normal course of business or by the means identified in the ADDRESSES section.

Costs of Compliance

We estimate that this AD affects 953 airplanes of U.S. registry.

We estimate the following costs to comply with this AD:

Estimated Costs
Action | Labor cost | Parts cost | Cost per product | Cost on U.S. operators
Part number inspection | 4 work-hours × $85 per hour = $340 | $0 | $340 | $324,020
Reporting | 1 work-hour × $85 per hour = $85 | 0 | 85 | 81,005

We estimate the following costs to do any necessary replacements that would be required based on the results of the required inspection. We have no way of determining the number of airplanes that might need these replacements:

On-Condition Costs
Action | Labor cost | Parts cost | Cost per product
Replacement | Up to 25 work-hours × $85 per hour = $2,125 | $390 | Up to $2,515.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-16-02 Airbus: Amendment 39-18600. Docket No. FAA-2015-3989; Directorate Identifier 2014-NM-250-AD.

(a) Effective Date

This AD is effective September 16, 2016.

(b) Affected ADs

None.

(c) Applicability

This AD applies to the airplanes identified in paragraphs (c)(1), (c)(2), (c)(3), and (c)(4) of this AD; certificated in any category; all manufacturer serial numbers, except those that have embodied Airbus modification 33125 (gaseous system for all oxygen containers) in production.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 35, Oxygen.

(e) Reason

This AD was prompted by reports of premature aging of certain passenger chemical oxygen generators that resulted in the generators failing to activate. We are issuing this AD to prevent failure of the passenger chemical oxygen generator to activate and consequently not deliver oxygen during an emergency, possibly resulting in injury to the airplane occupants.

(f) Compliance

Comply with this AD within the compliance times specified, unless already done.

(g) Part Number Inspection

Within 30 days after the effective date of this AD: Do a one-time inspection of passenger chemical oxygen generators, part numbers (P/N) 117042-02 (15 minutes (min)—2 masks), 117042-03 (15 min—3 masks), 117042-04 (15 min—4 masks), 117042-22 (22 min—2 masks), 117042-23 (22 min—3 masks), and 117042-24 (22 min—4 masks) to determine the date of manufacture as specified in Airbus Alert Operators Transmission (AOT) A35N006-14, dated December 10, 2014, including Appendix 1. Refer to figures 1 and 2 to paragraph (g) of this AD for the location of the date. A review of airplane maintenance records is acceptable for the inspection required by this paragraph, provided the date of manufacture can be conclusively determined by that review.

(h) Replacement of Passenger Chemical Oxygen Generators Manufactured in 1999, 2000, or 2001

If, during any inspection required by paragraph (g) of this AD, any passenger chemical oxygen generator having a date of manufacture in 1999, 2000, or 2001 is found: At the applicable time specified in paragraph (h)(1), (h)(2), or (h)(3) of this AD, remove and replace the affected passenger chemical oxygen generator with a serviceable unit, in accordance with Airbus AOT A35N006-14, dated December 10, 2014, including Appendix 1 (for 15-minute and 22-minute passenger chemical oxygen generators); or the Accomplishment Instructions of B/E Aerospace Service Bulletin 117042-35-001, Revision 004, dated October 13, 2015 (for 15-minute passenger chemical oxygen generators).

(1) For passenger chemical oxygen generators that have a date of manufacture in 1999: Within 30 days after the effective date of this AD.

(2) For passenger chemical oxygen generators that have a date of manufacture in 2000: Within 6 months after the effective date of this AD.

(3) For passenger chemical oxygen generators that have a date of manufacture in 2001: Within 12 months after the effective date of this AD.

(i) Replacement of Passenger Chemical Oxygen Generators Manufactured in 2002 and Later

If, during any inspection required by paragraph (g) of this AD, any passenger chemical oxygen generator having a date specified in table 1 to paragraph (i) of this AD is found: At the applicable time specified in table 1 to paragraph (i) of this AD, remove and replace the affected passenger chemical oxygen generator with a serviceable unit, in accordance with Airbus AOT A35N006-14, dated December 10, 2014, including Appendix 01, undated (for 15-minute and 22-minute passenger chemical oxygen generators); or the Accomplishment Instructions of B/E Aerospace Service Bulletin 117042-35-001, Revision 004, dated October 13, 2015 (for 15-minute passenger chemical oxygen generators).

Table 1 to Paragraph (i) of This AD—Replacement Compliance Times
Year of manufacture | Compliance time
2002 | Within 12 months after the effective date of this AD.
2003 | Within 16 months after the effective date of this AD.
2004 | Within 20 months after the effective date of this AD.
2005 | Within 24 months after the effective date of this AD.
2006 | Within 28 months after the effective date of this AD.
2007 | Within 32 months after the effective date of this AD.
2008 | Within 36 months after the effective date of this AD.
2009 | Before exceeding 10 years since date of manufacture of the passenger chemical oxygen generator.

(j) Definition of Serviceable

For the purpose of this AD, a serviceable unit is a passenger chemical oxygen generator having P/N 117042-XX with a manufacturing date not older than 10 years, or any other approved part number, provided that the generator has not exceeded the life limit established for that generator by the manufacturer.

(k) Reporting

At the applicable time specified in paragraph (k)(1) or (k)(2) of this AD, submit a report of the findings (both positive and negative) of the inspection required by paragraph (g) of this AD, in accordance with paragraph 7, “Reporting,” of Airbus AOT A35N006-14, dated December 10, 2014, including Appendix 1. The report must include the information specified in Appendix 1 of Airbus AOT A35N006-14, dated December 10, 2014.

(1) If the inspection was done on or after the effective date of this AD: Submit the report within 30 days after the inspection.

(2) If the inspection was done before the effective date of this AD: Submit the report within 30 days after the effective date of this AD.

(l) Parts Installation Limitation

As of the effective date of this AD, no person may install a passenger chemical oxygen generator, unless it is determined, prior to installation, that the oxygen generator is a serviceable unit as specified in paragraph (j) of this AD.

(m) Credit for Previous Actions

This paragraph provides credit for actions required by paragraphs (h) and (i) of this AD, if those actions were performed before the effective date of this AD using the service information specified in paragraphs (m)(1), (m)(2), (m)(3), or (m)(4).

(1) B/E Aerospace Service Bulletin 117042-35-001, dated December 10, 2014.

(2) B/E Aerospace Service Bulletin 117042-35-001, Revision 001, dated April 9, 2015.

(3) B/E Aerospace Service Bulletin 117042-35-001, Revision 002, dated May 29, 2015.

(4) B/E Aerospace Service Bulletin 117042-35-001, Revision 003, dated June 25, 2015.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone: 425-227-1405; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with, a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(o) Related Information

(1) Refer to Mandatory Continuing Airworthiness Information (MCAI) European Aviation Safety Agency (EASA) AD 2015-0117, dated June 24, 2015; corrected August 7, 2015; for related information. This MCAI may be found in the AD docket on the Internet at http://www.regulations.gov by searching for and locating Docket No. FAA-2015-3989.

(2) Service information identified in this AD that is not incorporated by reference is available at the addresses specified in paragraphs (p)(3) and (p)(4) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A35N006-14, dated December 10, 2014, including Appendix 01, undated.

(ii) B/E Aerospace Service Bulletin 117042-35-001, Revision 004, dated October 13, 2015.

(3) For Airbus service information identified in this AD, contact Airbus, Airworthiness Office—EIAS, 1 Rond Point Maurice Bellonte, 31707 Blagnac Cedex, France; telephone: +33 5 61 93 36 96; fax: +33 5 61 93 44 51; email: account.airworth-eas@airbus.com; Internet: http://www.airbus.com. For B/E Aerospace service information identified in this AD, contact B/E Aerospace Inc., 10800 Pflumm Road, Lenexa, KS 66215; telephone: 913-338-9800; fax: 913-469-8419; Internet: http://beaerospace.com/home/globalsupport.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 21, 2016.
Michael Kaszycki,
Acting Manager, Transport Airplane Directorate, Aircraft Certification Service.

[FR Doc. 2016-18169 Filed 8-11-16; 8:45 am]

BILLING CODE 4910-13-P